DEPARTMENT OF VETERANS AFFAIRS

Voluntary Services National Advisory Committee; Notice of Meeting

The Department of Veterans Affairs gives notice under Public Law 92-463 (Federal Advisory Committee Act) that the annual meeting of the Department of Veterans Affairs Voluntary Service (VAVS) National Advisory Committee (NAC) will be held April 9-12, 2008, at the Rosen Centre Hotel, 9840 International Drive, Orlando, Florida. The meeting is open to the public, and the sessions are scheduled as follows:

April 9: 6 p.m. until 8 p.m.

April 10 & 11: 8:30 a.m. until 3 p.m.

April 12: 8:30 a.m. until 2 p.m., with a closing program at 6 p.m.

The Committee comprised of sixty-five national voluntary organizations, with five membership categories (Service Member, Associate Service Member, Donor Member, Associate Donor Member and Adjunct Member), advises the Secretary, through the Under Secretary for Health, on the coordination and promotion of volunteer activities within VA health care facilities. The primary purposes of this meeting are: to provide for Committee review of volunteer policies and procedures; to accommodate full and open communications between organization representatives and the Voluntary Service Office and field staff; to provide educational opportunities geared towards improving volunteer programs with special emphasis on methods to recruit retain, motivate and recognize volunteers, and to approve Committee recommendations.

The April 9 session will involve opening ceremonies and remarks by several VA and local officials. The April 10 session will feature a Voluntary Service Report and recognition of the recipients of the VAVS Award for Excellence and NAC Volunteers of the Year. In addition, the James H. Parke Memorial Scholarship Luncheon will be held to honor an outstanding youth volunteer. The following educational workshops are scheduled: The Professional Volunteer; Recruitment; Selling Ice to Eskimos and Customer Service.

On April 11, the business session will include subcommittee reports. This session will be follows by a repeat of the educational workshops. The April 12 session will include closing remarks from the Chairman, followed that evening by the Volunteer Recognition Dinner.

No time will be allocated at this meeting for receiving oral presentations from the public. However, interested persons may either attend or file statements with the Committee. Written statements may be filed either before the meeting or within 10 days after the meeting and addressed to: Ms. Laura B. Balun, Director, Voluntary Service Office (10C2), Department of Veterans Affairs, 810 Vermont Avenue, NW., Washington, DC 20420. Individuals interested in attending are encouraged to contact Ms. Balun at (202) 273-8952.

Dated: February 15, 2008.
By direction of the Secretary.
E. Philip Riggin,
Committee Management Officer.

[FR Doc. 08-811 Filed 2-22-08; 8:45 am]

BILLING CODE 8320-01-M